DEPARTMENT OF ENERGY

Federal Energy Regulatory Commission

[Docket No. QF08-530-000]

Lowe's Home Improvement Centers, Inc.; Notice of Filing of Notice of Self-Certification of Qualifying Status of a Cogeneration Facility

July 30, 2008.

Take notice that on April 28, 2008, Lowe's Home Improvement Centers, Inc., Wilkesboro, North Carolina, filed with the Federal Energy Regulatory Commission a notice of self-certification of a facility as a qualifying cogeneration facility pursuant to 18 CFR 292.207(a) of the Commission's regulations.

This qualifying cogeneration facility consists of a 500 kW packaged diesel engine generator set operating on #2 fuel oil. The package is set on a concrete pad. The unit is self-contained, including all necessary switchgear and controls. The electricity is generated at 480 V, 3 phase, 60 Hz. The facility is located at 111 River Oaks Drive, Tarboro, NC 27886.

This qualifying facility interconnects with the Town of Tarboro's electric distribution system. The facility will provide standby power and occasionally supplementary power to Lowe's Home Improvement Center.

A notice of self-certification does not institute a proceeding regarding qualifying facility status; a notice of self-certification provides notice that the entity making the filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E8-18061 Filed 8-6-08; 8:45 am]

BILLING CODE 6717-01-P